DEPARTMENT OF TRANSPORTATION

Federal Railroad Administration

[Docket Number FRA-2017-0104]

Petition for Extension of Waiver of Compliance

Under part 211 of title 49 Code of Federal Regulations (CFR), this document provides the public notice that on September 20, 2022, Caltrain petitioned the Federal Railroad Administration (FRA) for an extension of a waiver of compliance from certain provisions of the Federal railroad safety regulations contained at 49 CFR part 238, Passenger Equipment Safety Standards. The relevant FRA Docket Number is FRA-2017-0104.

Specifically, Caltrain seeks to extend its waiver of compliance from a portion of 49 CFR 238.113(a)(2), Emergency window exits, for the Caltrain Electric Multiple Unit restroom car. The Americans with Disabilities Act (ADA)-compliant restroom facility extends from the exterior side door to nearly the centerline of the car, thus precluding the placement of the emergency window exit in this quadrant of the car in the lower main level. Caltrain states that it believes the intent of the emergency window requirement is met, as the position of the window provides the closest practical fulfillment of the location requirements, without otherwise compromising access to either the emergency window exit or the ADA restroom facility. Additionally, Caltrain explains passengers have ready access to the exterior side door with a clear opening of 51 inches. However, because the design does not meet the literal interpretation of “each end (half) of the car,” Caltrain is requesting to extend its waiver of this requirement for this restroom car for the life of the equipment.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by December 20, 2022 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-22849 Filed 10-20-22; 8:45 am]

BILLING CODE 4910-06-P